DEPARTMENT OF HEALTH AND HUMAN SERVICES'

Administration for Children and Families

Proposed Information Collection Activity; State Court Improvement Program (OMB # 0970-0307)

AGENCY: Children's Bureau, Administration for Children and Families, HHS.

ACTION: Request for public comment.

SUMMARY: The Administration for Children and Families (ACF) is requesting a 3-year extension of the Court Improvement Program (CIP) Program Strategic Plan Template and Annual CIP Self-Assessment (Office of Management and Budget (OMB) #0970-0307, expiration November 30, 2022). There are minimal updates to the form to reflect new legislation as well as to support technical assistance. The collections are necessary to continue operating the program in compliance with congressional reauthorization.

DATES: Comments are due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The proposed collection is a continuation of the current collection and comprised of two components. An application including a strategic plan and annual self-assessment. The self-assessment reflects what the state has done in the prior year focusing on its progress and status within the change management cycle. The strategic plan looks forward to those interventions and actions the state plans to undertake to address needs or buttress strengths they have discovered in their assessment activities. Additions from the prior approval include infrastructural questions around the Child and Family Services Reviews regarding efforts to engage legal and judicial staff and collaborate with the child welfare agency. They also include overall court structural questions which are responsive to requests from grantees to facilitate peer connections of similarly situated states. The next application will be due June 30, 2023.

Respondents: We anticipate the highest state court of every state, the District of Columbia, Puerto Rico, and the U.S. Virgin Islands to respond. All 53 jurisdictions currently participate in the program.

Annual Burden Estimates
Instrument | Total number of respondents | Annual number of responses per respondent | Average burden hours per response | Annual burden hours
Annual Self-Assessment | 53 | 1 | 40 | 2,120
Strategic Plan | 53 | * .20 | 52 | 551.20
Estimated Total Annual Burden Hours: |  |  |  | 2,671.20
* The full Strategic Plan is completed every 5 years. In years when the Strategic Plan is not completed, respondents may spend minimal time updating relevant sections of the Strategic Plan. This is accounted for in the estimate for the Annual Self-Assessment.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 629h.

Mary B. Jones,
ACF/OPRE Certifying Officer.

[FR Doc. 2022-14343 Filed 7-5-22; 8:45 am]

BILLING CODE 4184-29-P